DEPARTMENT OF ENERGY

Federal Energy Regulatory Commission

[Project No.: 2660-024]

Domtar Maine Corporation; Notice of Intent To Prepare an Environmental Assessment and Notice of Scoping Meetings and Site Visit and Soliciting Scoping Comments

July 10, 2009.

Take notice that the following hydroelectric application has been filed with the Commission and is available for public inspection.

a. Type of Application: New License.

b. Project No.: 2660-024.

c. Date Filed: March 19, 2009.

d. Applicant: Domtar Maine Corporation.

e. Name of Project: Forest City Project.

f. Location: On Forest City Stream, a tributary of the St. Croix River in Washington and Aroostock Counties, Maine and Canada.

g. Filed Pursuant to: Federal Power Act 16 U.S.C. 791 (a)-825(r).

h. Applicant Contact: Mr. Scott Beal, Domtar Maine Corporation, 144 Main Street, Baileyville, Maine 04694 (207) 427-4004.

i. FERC Contact: John Costello, (202) 502-6119 or john.costello@ferc.gov.

j. Deadline for filing scoping comments: September 11, 2009.

All documents (original and eight copies) should be filed with: Kimberly D. Bose, Secretary, Federal Energy Regulatory Commission, 888 First Street, NE., Washington, DC 20426.

The Commission's Rules of Practice and Procedure require all intervenors filing documents with the Commission to serve a copy of that document on each person on the official service list for the project. Further, if an intervenor files comments or documents with the Commission relating to the merits of an issue that may affect the responsibilities of a particular resource agency, they must also serve a copy of the document on that resource agency.

Scoping comments may be filed electronically via the Internet in lieu of paper. The Commission strongly encourages electronic filings. See 18 CFR 385.2001(a)(1)(iii) and the instructions on the Commission's Web site at http://www.ferc.gov under the “e-Filing” link.

k. This application is not ready for environmental analysis at this time.

l. Project Description: The existing Forest City Project comprised an earth embankment dam containing a gated timber spillway and two impoundments (East Grand and North lakes). There are no generating facilities located at the project. Approximately one-quarter of the 544-foot-long dam (i.e., approximately 147 feet) is within the United States; the remaining section of the dam is located in Canada. The United States (western) section of the dam is an earth embankment measuring approximately 110-feet-long with a maximum height of 12 feet. The center section of the dam (i.e., that portion located in the river channel) contains a 55-foot-wide gated timber crib spillway structure with three wooden gates (gates 1 and 2 are located within the United States). The spillway is approximately 33-feet-wide with an elevation of 426.61 feet msl. A 5-foot-wide vertical slot design fishway is located in Canada. The eastern (Canadian) embankment is an earth structure approximately 397-feet-long, 30-feet-wide with a crest elevation of 437.27 feet msl. No new construction is planned.

m. Locations of the Application: A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at (866) 208-3676, or for TTY, (202) 502-8659. A copy is also available for inspection and reproduction by contacting the applicant using the contact information in item (h) above.

You may also register online at http://www.ferc.gov/esubscribenow.htm to be notified via e-mail of new filings and issuances related to this or other pending projects. For assistance, contact FERC Online Support.

n. Scoping Process: The Commission intends to prepare a single environmental assessment (EA) for the project which will include the West Branch Project (FERC No. P-2618- 020) (no draft EA would be prepared) in accordance with the National Environmental Policy Act. The EA will consider both site-specific and cumulative environmental impacts and reasonable alternatives to the proposed action.

Scoping Meetings

Commission staff will hold two scoping meetings in the vicinity of the project at the time and place noted below. The daytime meeting will focus on resource agency, Indian tribes, and non-governmental organization concerns, while the evening meeting is primarily for receiving input from the public. We invite all interested individuals, organizations, and agencies to attend one or both of these meetings and to assist staff in determining the scope of the environmental issues to be addressed in the environmental assessment. The times and locations of these meetings are as follows:

Daytime Scoping Meeting

Date: August 13, 2009.

Time: 10 a.m. (EST).

Place: Conference Room, Domtar Maine Administration Building.

Address: Domtar Maine Corporation, 144 Main Street, Baileyville, Maine 04694.

Evening Scoping Meeting

Date: August 13, 2009.

Time: 6 p.m. (EST).

Place: Conference Room, Domtar Maine Administration Building,

Address: Domtar Maine Corporation, 144 Main Street, Baileyville, Maine 04694.

The scoping document, which outlines the subject areas to be addressed in the environmental assessment, was mailed to the individuals and entities on the Commission's mailing list. Copies of the scoping document will be available at the scoping meetings or may be viewed on the Web at http://www.ferc.gov using the “eLibrary” link (see item m above). Based on all oral and written comments, a revised scoping document may be issued.

Site Visit

We will hold a site visit to the project on Wednesday, August 12, 2009, beginning at 9 a.m. (EST). To attend the site visit, meet at Domtar Maine Corporation's Administration Building located at 144 Main Street, Baileyville, Maine 04694. All participants are responsible for their own transportation and lunch. Anyone with questions about the site visit (or for directions) should contact Scott Beal at (207) 427-4004. Those individuals planning to participate in the site visit should notify Mr. Beal of their intent, no later than August 6, 2009.

Note that Commission staff may hold a site visit and/or meeting at the project at a later date to discuss any project-related effects to archaeological, historic, or traditional cultural properties.

Meeting Objectives

At the scoping meetings, staff will: (1) Summarize the environmental issues tentatively identified for analysis in the EA; (2) solicit from meeting participants all available information, especially quantifiable data, on the resources issues; (3) encourage statements from experts and the public on issues that should be analyzed in the EA, including viewpoints in opposition to, or in support of, the staff's preliminary views; (4) determine the resource issues to be addressed in the EA; and (5) identify those issues that require a detailed analysis, as well as those issues that do not require a detailed analysis.

Meeting Procedures

Scoping meetings will be recorded by a stenographer and will become part of the Commission's formal record for this proceeding.

Individuals, organizations, and agencies with environmental expertise and concerns are encouraged to attend the meetings and to assist staff in defining and clarifying the issues to be addressed in the EA.

Kimberly D. Bose,
Secretary.

[FR Doc. E9-16991 Filed 7-16-09; 8:45 am]

BILLING CODE 6717-01-P